DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with July anniversary dates. In accordance with the Department's regulations, we are initiating those administrative reviews. The Department also received requests to revoke five antidumping duty orders in part.

EFFECTIVE DATE: August 27, 2002.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2001), for administrative reviews of various antidumping and countervailing duty orders and findings with July anniversary dates. The Department also received timely requests to revoke in part the antidumping duty orders on Silicon Metal from Brazil, Fresh Atlantic Salmon from Chile, Certain Pasta from Italy, Certain Pasta from Turkey and Persulfates from the People's Republic of China.

Initiation of Reviews

In accordance with 19 CFR 351.221(c)(1)(i), we are initiating administrative reviews of the following antidumping and countervailing duty orders and findings. We intend to issue the final results of these reviews not later than July 31, 2003.

| Period to be reviewed
Antidumping Duty Proceedings
Brazil: Silicon Metal, A-351-806 | 7/1/01-6/30/02
Companhia Brasileira Carbureto De Calcio
Rima Industrial S/A
Chile: Fresh Atlantic Salmon, A-337-803 | 7/1/01-6/30/02
Acuicultura de Aquas Australes
Agromar Ltda.
Aguas Claras S.A.
Antarfish S.A.
Aqua Chile S.A.
Aquasur Fisheries Ltda.
Asesoria Acuicola S.A.
Australis S.A.
Best Salmon
Cenculmavique
Centro de Cultivo de Moluscos
Cerro Farrellon Ltda.
Chile Cultivos S.A.
Chisal S.A.
Comercializadora Smoltech Ltda.
Complejo Piscicola Coyhaique
Cultivadora de Salmones Linao Ltda.
Cultivos Marinos Chiloe Ltda.
Cultivos San Juan
Cultivos Yardan S.A.
Empresa Nichiro Chile Ltda.
Fiordo Blanco S.A.
Fisher Farms
Fitz Roy S.A.
Fjord Sea Food Chile
Friosur S.A.
Ganadera Del Mar
Gentec S.A.
Granja Maria Torna Galeones S.A.
Hiuto Salmones S.A.
Huitosal Mares Australes Salmo Pac.
Instituto Tecnologico Del Salmon S.A.
Inversiones Pacific Star Ltda.
Invertec Pesquera Mar de Chiloe Ltda.
Los Fiordos Ltda.
Manao Bay Fishery S.A.
Mardim Ltda.
Marine Harvest Chile S.A.
Ocean Horizons Chile S.A.
Pacific Mariculture
Patagonia Fish Farming S.A.
Patagonia Salmon Farming S.A.
Pesca Chile S.A.
Pesquera Antares S.A.
Pesquera Chiloe S.A.
Pesquera Eicosal Ltda.
Pesquera Friosur S.A.
Pesquera Los Fiordos Ltda.
Pesquera Mares de Chile S.A.
Pesquera Pacific Star
Pesquera Quellon Ltda.
Pesquera Y Comercial Rio Peulla S.A.
Piscicola Entre Rios S.A.
Piscicultura Iculpe
Piscicultura La Cascada
Piscultura Santa Margarita
Productos Del Mar Ventisqueros S.A.
Prosmolt S.A.
Quetro S.A.
River Salmon S.A.
Robinson Crusoe Y Cia. Ltda.
Salmoamerica
Salmones Andes S.A.
Salmones Antarctica S.A.
Salmones Aucar Ltda.
Salmones Caicaen S.A.
Salmones Calbuco S.A.
Salmones Chiloe S.A.
Salmones Friosur S.A.
Salmones Huillinco S.A.
Salmones Ice Val Ltda.
Salmones Llanquihue
Salmones Mainstream S.A.
Salmones Multiexport Ltda.
Salmones Pacific Star Ltda.
Salmones Pacifico Sur S.A.
Salmones Quellon
Salmones Ranco Sur Ltda.
Salmones Tecmar S.A.
Salmones Tierra Del Fuego Ltda.
Salmones Unimarc S.A.
Salmosan
Seafine Salmon S.A.
Skyring Salmon S.A.
Soc. Agricola Chillehue Ltda.
Soc. Alimentos Maritimos Avalon Ltda.
Soc. Aquacultivos Ltda.
Truchas Aguas Blancas Ltda.
Trusal S.A.
Ventisqueros S.A.
France: Stainless Steel Sheet and Strip in Coils, A-427-814—Ugine S.A. | 7/1/01-6/30/02
Germany: Stainless Steel Sheet and Strip in Coils, A-427-825 | 7/1/01-6/30/02
Krupp Thyssen Nirosta GmbH
Thyssen Krupp VDM GmbH
Germany: Industrial Nitrocellulose, A-428-803—Wolff Walsrode AG | 7/1/01-6/30/02
Iran: In-Shell Pistachios, A-507-502 | 7/1/01-6/30/02
Nima Trading Company
Rafsanjan Pistachios Producers Cooperative
Italy: Certain Pasta, A-475-818 | 7/1/01-6/30/02
F. Divella S.P.A.
Industria Alimentare Colavita, S.p.A.
Industrie Alimentari Molisane S.r.l.
Labor S.r.l.
Molino e Pastificio Tomasello S.r.l.
Pastificio Antonio Pallante S.r.l.
Pastificio Guido Ferrara
Pastificio Garofalo S.p.A.
IAPC Italia S.r.l.
Pastificio F.LLI Pagani S.p.A.
Pastificio Zaffiri S.r.l.
P.A.M., S.r.l.—Prodotti Alimentari Meridionali.
Rummo S.p.A. Pastificio e Molino
Italy: Stainless Steel Sheet and Strip in Coils, A-475-824—Thyssen Krupp Acciai Speciali S.p.A. | 7/1/01-6/30/02
Mexico: Stainless Steel Sheet and Strip in Coils, A-201-822—Thyssen Krupp Mexinox S.A. de C.V. | 7/1/01-6/30/02
Republic of Korea: Stainless Steel Sheet and Strip in Coils, A-580-834 | 7/1/01-6/30/02
Dai Yang Metal Co., Ltd
Pohang Iron & Steel Co., Ltd.
Taiwan: Stainless Steel Sheet and Strip in Coils, A-583-831 | 7/1/01-6/30/02
Chia Far Industrial Factory Co., Ltd.
Ta Chen Stainless Pipe Co., Ltd.
Tung Mung Development Co., Ltd.
Yieh United Steel Corporation
Thailand: Canned Pineapple, A-549-813 | 7/1/01-6/30/02
Dole (Thailand)/Dole Package Foods Co./Dole Food Co.
Kuiburi Fruit Canning Company Limited
Malee Sampran Factory Public Company, Ltd.
The Prachuab Fruit Canning Company
Siam Fruit Canning (1988) Co., Ltd.
Siam Food Products Public Company Ltd.
Thai Pineapple Canning Industry Corporation
The Thai Pineapple Public Co., Ltd.
Vita Food Factory (1989) Co., Ltd.
Thailand: Carbon Steel Butt-Weld Pipe Fittings, A-549-807—Thai Benkan Corporation, Ltd. | 7/1/01-6/30/02
Thailand: Furfuryl Alcohol, A-549-812—Indorama Chemicals Thailand Ltd. | 7/1/01-6/30/02
The People’s Republic of China: Bulk Aspirin ¹, A-570-853 | 7/1/01-6/30/02
Shandong Xinhua Pharmaceutical Co., Ltd.
Jilin Henghe Pharmaceutical Co., Ltd.
The People’s Republic of China: Persulfates ², A-570-847—Shanghai Ai Jian Import & Export Corp./Shanghai Ai Jian Reagent Works | 7/1/01-6/30/02
The People's Republic of China:Sebacic Acid ³, A-570-825 | 7/1/01-6/30/02
Tianjin Chemicals Import & Export Co.
Guangdong Chemicals Import and Export Co.
Turkey: Certain Pasta, A-489-805—Filiz Gida Sanayi ve Ticaret A.S. | 7/1/01-6/30/02
The United Kingdom: Industrial Nitrocellulose, A-412-803—Imperial Chemical Industries PLC and its affiliates | 7/1/01-6/30/02
Countervailing Duty Proceedings
Italy: Certain Pasta, C-475-819 | 1/1/01-12/31/01
Delverde, SpA
F. Divella S.p.A.
F.lli De Cecco di Filippo Fara S. Martino S.p.A.
Labor S.r.l.
Suspension Agreements
None.
¹ If one of the above named companies does not qualify for a separate rate, all other exporters of bulk aspirin from the People's Republic of China who have not qualified for a separate rate are deemed to be covered by this review as part of the single PRC entity of which the named exporters are a part.
² If one of the above named companies does not qualify for a separate rate, all other exporters of persulfates from the People's Republic of China who have not qualified for a separate rate are deemed to be covered by this review as part of the single PRC entity of which the named exporters are a part.
³ If one of the above named companies does not qualify for a separate rate, all other exporters of sebacic acid from the People's Republic of China who have not qualified for a separate rate are deemed to be covered by this review as part of the single PRC entity of which the named exporters are a part.

During any administrative review covering all or part of a period falling between the first and second or third and fourth anniversary of the publication of an antidumping order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: August 19, 2002.
Holly A. Kuga,
Senior Office Director, Group II, Office 4, Import Adminstration.

[FR Doc. 02-21803 Filed 8-26-02; 8:45 am]

BILLING CODE 3510-DS-P